DEPARTMENT OF COMMERCE

International Trade Administration

Notice of Scope Rulings

AGENCY: Import Administration, International Trade Administration, Department of Commerce.

EFFECTIVE DATE: February 2, 2006.

SUMMARY: The Department of Commerce (the Department) hereby publishes a list of scope rulings completed between October 1, 2005, and December 31, 2005. In conjunction with this list, the Department is also publishing a list of requests for scope rulings and anticircumvention determinations pending as of December 31, 2005. We intend to publish future lists after the close of the next calendar quarter.

FOR FURTHER INFORMATION CONTACT: Alice Gibbons, AD/CVD Operations, Office 2, Import Administration, International Trade Administration, U.S. Department of Commerce, 14th Street and Constitution Avenue, NW, Washington, DC 20230; telephone: (202) 482-0498.

SUPPLEMENTARY INFORMATION:

Background

The Department's regulations provide that the Secretary will publish in the Federal Register a list of scope rulings on a quarterly basis. See 19 CFR 351.225(o). Our most recent “Notice of Scope Rulings” was published on November 23, 2005. See 70 FR 70785. The instant notice covers all scope rulings and anticircumvention determinations completed by Import Administration between October 1, 2005, and December 31, 2005, inclusive. It also lists any scope or anticircumvention inquiries pending as of December 31, 2005, as well as scope rulings inadvertently omitted from prior published lists. As described below, subsequent lists will follow after the close of each calendar quarter.

Scope Rulings Completed Between October 1, 2005 and December 31, 2005:

People's Republic of China

A-570-803: Heavy Forged Hand Tools, Finished or Unfinished, With or Without Handles, from the People's Republic of China

Requestor: Avalanche Industries LLC; its “Mean Green Splitting Machine” (also known as the “Smart Splitter”) is included within the scope of the bars and wedges antidumping duty order; October 14, 2005.

A-570-803: Heavy Forged Hand Tools, Finished or Unfinished, With or Without Handles, from the People's Republic of China

Requestor: Tianjin Machinery Import & Export Corporation; On September 22, 2005, the Court of International Trade upheld the Department's remand redetermination, which found that cast picks are outside the scope of the antidumping duty order on picks/mattocks; Because no party appealed this decision, this decision became final and conclusive on November 22, 2005.

A-570-890: Wooden Bedroom Furniture from the People's Republic of China

Requestor: Dorel Asia; infant (baby) armoires and toy boxes and chests are within the scope of the antidumping duty order; November 14, 2005.

A-570-890: Wooden Bedroom Furniture from the People's Republic of China

Requestor: Leggett & Platt; three-sided wooden daybeds with the back being longer than the two sides and are designed for use with a metal daybed link spring support (also known as a “top spring”) are within the scope of the antidumping duty order; November 21, 2005.

A-570-890: Wooden Bedroom Furniture from the People's Republic of China

Requestor: LumiSource, Inc.; its cell phone stash chair, whale stash chair, dolphin stash chair, and stash cube are excluded from the antidumping duty order; December 15, 2005.

Anti-circumvention Determinations Completed Between October 1, 2005 and December 31, 2005:

None.

Anti-circumvention Inquiries Terminated Between October 1, 2005 and December 31, 2005:

None.

Scope Inquiries Terminated Between October 1, 2005 and December 31, 2005:

People's Republic of China

A-570-898: Chlorinated Isocyanurates from the People's Republic of China

Requestor: Enviro Tech Chemical Services, Inc.; whether powdered trichlorisocyanuric acid should be considered a separate like product; requested October 10, 2005; terminated November 4, 2005.

Scope Inquiries Pending as of December 31, 2005:

Canada

A-122-838: Certain Softwood Lumber Products from Canada

Requestor: Coalition for Fair Lumber Imports Executive Committee; whether lumber entering under the HTSUS number 4409.10.05 is within the scope of the order; requested December 19, 2005.

People's Republic of China

A-570-504: Petroleum Wax Candles from the People's Republic of China

Requestor: Design Ideas, Ltd.; whether its “Lumanae” and “Lounge Light” candles are within the scope of the antidumping duty order; requested December 29, 2005.

A-570-504: Petroleum Wax Candles from the People's Republic of China

Requestor: Eighteen Karat International Product Sourcing, Inc.; whether its 12 “orchid” candles are within the scope of the antidumping duty order; requested September 12, 2005.

A-570-504: Petroleum Wax Candles from the People's Republic of China

Requestor: Kohl's Department Stores, Inc.; whether its chicken shaped candle is within the scope of the antidumping duty order; requested November 29, 2005.

A-570-832: Pure Magnesium from the People's Republic of China

Requestor: U.S. Magnesium LLC; whether pure and alloy magnesium processed in Canada, France, or any third country and exported to the United States using pure magnesium ingots originally produced in the PRC is within the scope of the antidumping duty order; requested July 19, 2005; initiated September 2, 2005.

A-570-868: Folding Metal Tables and Chairs from the People's Republic of China

Requestor: Mac Industries (Shanghai) Co., Ltd., Jiaxing Yinmao International Treading Co., Ltd., and Fujian Zenithen Consumer Products Co., Ltd.; whether their “moon chair” is within the scope of the antidumping duty order; requested August 18, 2005; initiated November 29, 2005.

A-570-878: Saccharin from the People's Republic of China

Requestor: PMC Specialities Group, Inc.; whether certain saccharin products originating in the PRC and further-processed in Israel are within the scope of the antidumping duty order; requested August 12, 2005; initiated October 26, 2005.

A-570-890: Wooden Bedroom Furniture from the People's Republic of China

Requestor: Cape Craftsmen; whether various cabinets/commodes are within the scope of the antidumping duty order; requested October 28, 2005.

A-570-890: Wooden Bedroom Furniture from the People's Republic of China

Requestor: Dorel Asia; whether infant (baby) changing tables and toddler beds are within the scope of the antidumping duty order; requested February 15, 2005; initiated November 14, 2005.

A-570-890: Wooden Bedroom Furniture from the People's Republic of China

Requestor: L. Powell Company; whether certain jewelry armoires without felt or felt-like lining on the door are within the scope of the antidumping duty order; requested November 30, 2005.

A-570-890: Wooden Bedroom Furniture from the People's Republic of China

Requestor: Whitewood Industries; whether certain wooden jewelry armoires lined with felt of felt-like material are within the scope of the antidumping duty order; requested December 5, 2005.

A-570-891: Hand Trucks and Certain Parts Thereof from the People's Republic of China

Requestor: Central Purchasing, LLC.; whether an accessory cart that is specifically designed to fit and carry a “Breaker Hammer,” and is imported separately from the Breaker Hammer, is within the scope of the antidumping duty order; requested November 22, 2005.

A-570-891: Hand Trucks and Certain Parts Thereof from the People's Republic of China

Requestor: Central Purchasing, LLC.; whether a “welding cart” is within the scope of the antidumping duty order; requested December 22, 2005.

A-570-896: Magnesium Metal from the People's Republic of China

Requestor: U.S. Magnesium LLC; whether pure and alloy magnesium processed in Canada, France, or any third country, and exported to the United States using pure magnesium ingots originally produced in the PRC, is within the scope of the antidumping duty order; requested July 19, 2005; initiated September 2, 2005.

Republic of Korea

C-580-851: Dynamic Random Access Memory Semiconductors from the Republic of Korea

Requestor: Cisco Systems, Inc.; whether removable memory modules placed on motherboards that are imported for repair or refurbishment are within the scope of the countervailing duty order; requested December 29, 2004; initiated February 4, 2005.

Vietnam

A-552-801: Certain Frozen Fish Fillets From the Socialist Republic of Vietnam

Requestor: Piazza Seafood World LLC; whether certain basa and tra fillets from Cambodia which are a product of Vietnam are excluded from the antidumping duty order; requested May 12, 2004; initiated October 22, 2004.

Anti-circumvention Inquiries Pending as of December 31, 2005:

People's Republic of China

A-570-504: Petroleum Wax Candles from the People's Republic of China

Requestor: National Candle Association; whether imports of palm and vegetable-based wax candles from the PRC can be considered later-developed merchandise which is now circumventing the antidumping duty order; requested October 8, 2004; initiated February 25, 2005.

A-570-504: Petroleum Wax Candles from the People's Republic of China

Requestor: National Candle Association; whether imports of palm and vegetable-based wax candles from the PRC can be considered a minor alteration to the subject merchandise for purposes of circumventing the antidumping duty order; requested October 12, 2004; initiated February 25, 2005.

A-570-504: Petroleum Wax Candles from the People's Republic of China

Requestor: National Candle Association; whether imports of candles from the PRC without wicks, into which wicks are then inserted after importation, can be considered “merchandise completed or assembled in the United States” and are circumventing the antidumping duty order; requested December 14, 2005.

A-570-868: Folding Metal Tables and Chairs from the People's Republic of China

Requestor: Meco Corporation; whether adding a cross-brace to folding metal tables from the PRC to join two legs into pairs can be considered minor alterations to merchandise, which is now circumventing the antidumping duty order (the scope defines the legs of folding metal tables as “legs that mechanically fold independently of one another”); requested October 31, 2005.

Vietnam

A-552-801: Certain Frozen Fish Fillets From the Socialist Republic of Vietnam

Requestor: Catfish Farmers of America and certain individual U.S. catfish processors; whether imports of frozen fish fillets from Cambodia made from live fish sourced from Vietnam, and falling within the scope of the order, can be considered “merchandise completed or assembled in other foreign countries” and are circumventing the antidumping duty order; requested August 20, 2004; initiated October 22, 2004.

Scope Rulings Inadvertently Omitted from Prior Published Lists:

None.

Interested parties are invited to comment on the completeness of this list of pending scope and anti-circumvention inquiries. Any comments should be submitted to the Deputy Assistant Secretary for AD/CVD Operations, Import Administration, International Trade Administration, 14th Street and Constitution Avenue, NW, Room 1870, Washington, DC 20230.

This notice is published in accordance with 19 CFR 351.225(o) of the Department's regulations.

Dated: January 30, 2006.
Stephen J. Claeys,
Deputy Assistant Secretary for Import Administration.

[FR Doc. E6-1416 Filed 2-1-06; 8:45 am]

BILLING CODE 3510-DS-S